DEPARTMENT OF HOMELAND SECURITY

Bureau of Customs and Border Protection

Announcement of Change to Merchandise Eligibility Requirements for Participation in Remote Location Filing Prototype Two

AGENCY: Customs and Border Protection, Homeland Security.

ACTION: General notice.

SUMMARY: This notice announces a change to the merchandise eligibility requirements for participation in Remote Location Filing (RLF) Prototype Two. RLF will now be permitted for cargo that will be moved using immediate transportation (IT) and transportation and export (T & E) in-bond procedures. CBP has determined that the security risks previously associated with in-bond transactions have been greatly reduced due to the significant security and cargo-processing gains accomplished by the advance cargo information regulations set forth in CBP Dec. 03-32, published in the Federal Register (68 FR 68140) on December 5, 2003. CBP also realizes that as in-bond transactions are a mainstay of international transactions, permitting RLF in an in-bond context will enhance the Prototype's usefulness to the trade while simultaneously furthering CBP's modernization objectives.

DATES: The change to Remote Location Filing (RLF) Prototype Two will go into effect March 31, 2005.

ADDRESSES: Written comments and applications to participate in the Prototype should be addressed to the Remote Filing Team, Office of Field Operations, Customs and Border Protection, 1300 Pennsylvania Avenue, NW., Room 5.2-B, Washington, DC 20229. Comments may also be submitted to Sherri Braxton via e-mail at remote.filing@dhs.gov.

FOR FURTHER INFORMATION CONTACT: For systems or automation issues: Steve Linnemann (202) 344-1975 or Jennifer Engelbach (562) 366-5593. For operational or policy issues: Sherri Braxton via e-mail at remote.filing@dhs.gov.

SUPPLEMENTARY INFORMATION:

Background

RLF Authorized by the National Customs Automation Program (NCAP)

Title VI of the North American Free Trade Agreement Implementation Act, Pub. L. 103-182, 107 Stat. 2057 (December 8, 1993), contains provisions pertaining to Customs Modernization (107 Stat. 2170). Subpart B of Title VI of the Act concerns the National Customs Automation Program (NCAP), an electronic system for the processing of commercial imports. Within subpart B, section 631 of the Act added section 414 (19 U.S.C. 1414), which provides for Remote Location Filing (RLF), to the Tariff Act of 1930, as amended. RLF permits an eligible NCAP participant to elect to file electronically a formal or informal consumption entry with Customs and Border Protection (CBP) from a remote location within the customs territory of the United States other than the port of arrival, or from within the port of arrival with a requested designated examination site outside the port of arrival.

RLF Prototype Two

In accordance with § 101.9(b) of the CBP Regulations (19 CFR 101.9(b)), CBP has developed and tested two RLF prototypes. A chronological listing of Federal Register publications detailing developments in the RLF prototypes follows:

• On April 6, 1995, CBP announced in the Federal Register (60 FR 17605) its plan to conduct the first of at least two RLF test prototypes. The first RLF test, designated Prototype One, began on June 19, 1995.

• On February 27, 1996, CBP announced in the Federal Register (61 FR 7300) the expansion of Prototype One and its extension until the implementation of RLF Prototype Two.

• RLF Prototype Two commenced on January 1, 1997. See document published in the Federal Register (61 FR 60749) on November 29, 1996.

• CBP announced in the Federal Register (62 FR 64043), on December 3, 1997, the extension of RLF Prototype Two until December 31, 1998.

• On December 7, 1998, CBP announced in the Federal Register (63 FR 67511) that Prototype Two would remain in effect until concluded by notice in the Federal Register.

• On July 6, 2001, CBP announced in the Federal Register (66 FR 35693) changes to the RLF Prototype Two eligibility requirements.

• On November 16, 2001, CBP announced in the Federal Register (66 FR 57774) a deadline extension for customs brokers participating in RLF to submit their national broker permit numbers to CBP.

• On February 25, 2003, CBP announced in the Federal Register (68 FR 8812) that line release entries would no longer be permitted for purposes of RLF Prototype Two, and set forth a comprehensive and updated list of current RLF eligibility requirements and a description of a new simplified application process.

Change to RLF Prototype Two Merchandise Eligibility Criteria

This notice announces a change to the merchandise eligibility requirements for participation in RLF Prototype Two, whereby RLF will now be permitted for cargo that will be moved using immediate transportation (IT) or transportation and export (T & E) in-bond procedures. This was not allowed under the original terms of RLF Prototype Two because CBP was concerned with the general lack of security associated with in-bond transactions.

Upon further review, CBP has determined that permitting RLF for cargo that has already been moved using immediate transportation in-bond procedures, or any other transportation entry in-bond, is acceptable as the risks previously associated with in-bond transactions have been greatly reduced due to the significant security and cargo-processing gains accomplished by the advance cargo information regulations set forth in CBP Dec. 03-32, published in the Federal Register (68 FR 68140) on December 5, 2003. CBP also realizes that in-bond transactions are a mainstay of international transactions. For this reason, CBP views permitting RLF in an in-bond context as a means of broadening the scope of RLF and thereby enhancing the program's usefulness to the trade while simultaneously furthering the Bureau's modernization objectives.

It is noted that with the exception of the change to the RLF Prototype Two merchandise eligibility criteria involving in-bond transportation procedures, discussed above, all other Prototype eligibility requirements, procedures, terms and conditions, as set forth in the document published on February 25, 2003, in the Federal Register (68 FR 8812), remain in effect.

Dated: March 25, 2005.
Jayson P. Ahern,
Assistant Commissioner, Office of Field Operations.

[FR Doc. 05-6397 Filed 3-30-05; 8:45 am]

BILLING CODE 4820-02-P